POSTAL SERVICE

Board of Governors; Sunshine Act Meeting; Notification of Item Added to Meeting Agenda

Date of Meeting: July 19, 2004.

Status: Closed.

Previous Announcement: 69 FR 41860, July 12, 2004.

Addition: Postal Rate Commission Opinion and Recommended Decision in Docket No. MC2004-1, Experimental Periodicals Co-Palletization Dropship Discounts for High Editorial Publications.

At its closed meeting on July 19, 2004, the Board of Governors of the United States Postal Service voted unanimously to add this item to the agenda of its closed meeting and that no earlier announcement was possible. The General Counsel of the United States Postal Service certified that in her opinion discussion of this item could be properly closed to public observation.

Contact Person For More Information: William T. Johnstone, Secretary of the Board, U.S. Postal Service, 475 L'Enfant Plaza, SW., Washington, DC 20260-1000.

William T. Johnstone,
Secretary.

[FR Doc. 04-17447 Filed 7-27-04; 3:54 pm]

BILLING CODE 7710-12-M